GENERAL SERVICES ADMINISTRATION

OMB Control No. 3090-0235

General Services Administration Acquisition Regulation; Information Collection; Price Reductions Clause

AGENCY: Office of the Chief Acquisition Officer, GSA.

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding the GSAR Price Reductions Clause. A request for public comments was published at 70 FR 10404, March 3, 2005. No comments were received.

Public comments are particularly invited on: Whether this collection of information is necessary and whether it will have practical utility; whether our estimate of the public burden of this collection of information is accurate, and based on valid assumptions and methodology; ways to enhance the quality, utility, and clarity of the information to be collected.

DATES: Submit comments on or before: June 6, 2005.

FOR FURTHER INFORMATION CONTACT: Ms. Linda Nelson, Procurement Analyst, Contract Policy Division, at telephone (202) 501-1900 or via e-mail to linda.nelson@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (VIR), General Services Administration, Room 4035, 1800 F Street, NW., Washington, DC 20405. Please cite OMB Control No. 3090-0235, Price Reductions Clause, in all correspondence.

SUPPLEMENTARY INFORMATION:

A. Purpose

The clause at GSAR 552.238-75, Price Reductions, used in multiple award schedule contracts ensures that the Government maintains its relationship with the contractor’s customer or category of customers, upon which the contract is predicated.

B. Annual Reporting Burden

Number of Respondents: 16,680.

Total Annual Responses: 33,360.

Average hours per response: 7.5 hours.

Total Burden Hours: 250,200.

Obtaining Copies of Proposals: Requesters may obtain a copy of the information collection documents from the General Services Administration, Regulatory Secretariat (VIR), 1800 F Street, NW., Room 4035, Washington, DC 20405, telephone (202) 208-7312. Please cite OMB Control No. 3090-0235, Price Reductions Clause, in all correspondence.

Dated: April 29, 2005
Julia Wise,
Director,Contract Policy Division

[FR Doc. 05-9100 Filed 5-5-05; 8:45 am]

BILLING CODE 6820-61-S